DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 77 FR 509-11, dated January 5, 2012) is amended to reflect the reorganization of the National Center for Chronic Disease Prevention and Health Promotion, Office of Noncommunicable Diseases, Injury and Environmental Health, Centers for Disease Control and Prevention.

Section C-B, Organization and Functions, is hereby amended as follows:

Delete in their entirety the functional statements for the National Center for Chronic Disease Prevention and Health Promotion (CUC), the Office of the Director (CUC1), the Technical Information and Services Branch (CUC12), and the Extramural Research Program Office (CUC18), and insert the following:

National Center for Chronic Disease Prevention and Health Promotion (CUC). Plans, directs, and coordinates a national program for the prevention of premature mortality, morbidity, and disability due to heart disease, cancer, stroke, diabetes, arthritis, oral disease and other major chronic diseases, conditions, and adverse health outcomes, including reproductive outcomes, and the prevention of associated major risk factors, including tobacco use, poor nutrition, and physical inactivity; and promotes the overall health of the population across the life span, and the health of population subgroups with disproportionate burdens of chronic diseases, conditions and risk factors. In carrying out this mission, the Center: (1) Plans, directs, and supports population-based policy, environmental, programmatic and infrastructure interventions to promote population health and well-being, increase healthy life expectancy, improve quality of life, increase productivity, and reduce health care costs; (2) provides national and international leadership in the development, implementation, evaluation, and dissemination of effective programs for chronic disease prevention, risk factor reduction, and health promotion; (3) plans, develops, implements, maintains and disseminates information for action from surveillance systems to monitor and understand the distribution of chronic diseases and conditions, and risk factors, and take appropriate action to address them; (4) conducts epidemiologic and behavioral investigations and demonstrations related to major health behaviors, including tobacco use, nutrition, family planning, alcohol use, and physical activity in conjunction with state, tribal, local and territorial health agencies, academic institutions, national, state and local partners and community organizations; (5) plans, directs, and conducts epidemiologic and evaluative investigations and interventions to improve health care access, utilization, and quality of health services in order to better prevent and control chronic diseases, conditions, and selected adverse reproductive outcomes, and reduce health risk behaviors; (6) serves as the primary focus for assisting states and localities through grants, cooperative agreements, and other mechanisms, in establishing and maintaining chronic disease prevention and health promotion programs; (7) provides training and technical consultation and assistance to states and localities in planning, establishing, maintaining, and evaluating prevention and control strategies for selected chronic disease and health promotion activities; (8) fosters collaboration and coordination of chronic disease prevention and health promotion activities across the Center by leading and facilitating join planning, consultation, program management and evaluation, and technical assistance to state, tribal, local and territorial partners; (9) provides technical consultation and assistance to other nations in the development and implementation of programs related to chronic disease prevention and health promotion, and selected adverse reproductive outcomes; and (10) in carrying out the above functions, collaborates as appropriate with other centers and offices of CDC, other PHS agencies, domestic and international public health agencies, and voluntary and professional health organizations. Office of the Director (CUC1). (1) Manages, directs, coordinates, and evaluates the national and international activities and programs of the National Center for Chronic Disease Prevention and Health Promotion (NCCDPHP); (2) develops goals and objectives and provides leadership, policy formulation, scientific oversight, and guidance in program planning and development; (3) coordinates expert consultation and assistance provided by NCCDPHP to other CDC components, other PHS agencies, and federal, state, tribal, local and territorial government agencies, health care and related organizations, national and international health-related voluntary organizations, employers and businesses, private sector organizations, and other nations, and facilitates collaboration with these entities; (4) provides and coordinates science and administrative support services for NCCDPHP programs, including guidance and coordination for grants, cooperative agreements, and other assistance mechanisms; (5) provides support and quality assurance functions for human subjects protection, scientific clearance of information products produced by the Center, and plans, develops, and coordinates extramural research activities in cooperation with centers, divisions, and offices; (6) provides support and coordination for ongoing internal and external review of scientific and programmatic activities and ensures compliance with relevant rules, regulations and guidance documents; (7) coordinates, manages, and supports analyses of surveillance systems and activities in support of programs carried out by various NCCDPHP components; (8) coordinates the recruitment, assignment, technical supervision, and career development of staff, including field assignees, with emphasis on goals for affirmative action; (9) provides technical information services to facilitate dissemination of significant information to NCCDPHP staff, various federal, state, and local health agencies, professional and voluntary organizations, and through them to selected target populations; and (10) supports ongoing publication of Preventing Chronic Disease: Public Health Research Practice and Policy as a resource for public health professionals.

Health Communication Science Office (CUC1B). The Health Communication Science Office (HCSO) provides ongoing communication leadership and support to NCCDPHP's Office of the Director and divisions in furthering the center's mission to prevent chronic diseases and promote overall health. The HCSO (1) plans, develops, conducts, and evaluates cross-cutting communication projects and campaigns to inform media, health professionals, and the public about the prevention of chronic diseases and the promotion of healthy behaviors; (2) provides media, communication, and marketing support to NCCDPHP's divisions and programs; (3) facilitates cross-division coordination of health communication activities, sharing of lessons learned, and development of best practices; (4) serves as primary liaison between NCCDPHP and CDC's Office of the Associate Director for Communication on communication and marketing science and its associated research and practice; (5) prepares CDC and HHS press releases and media advisories, responds to center-level media inquiries, and coordinates and clears division-level media inquiries; (6) provides media relations support and training to NCCDPHP scientists and communication specialists; (7) manages a centralized system for tracking and analyzing media coverage of NCCDPHP issues and data releases; (8) provides technical writing and editing support to NCCDPHP scientific authors; (9) designs, develops, and coordinates the publication of print and audiovisual materials such as fact sheets, newsletters, speeches and presentations, exhibits, podcasts, and educational videos; (10) manages NCCDPHP's Web site and coordinates scheduling and production of chronic-disease-related weekly features for main CDC Web site; (11) responds to cross-cutting public inquiries as part of the CDC-INFO system and coordinates NCCDPHP's utilization of the CDC publication distribution facility; (12) manages and coordinates scientific and public affairs clearance of NCCDPHP print and non-print materials, ensuring adherence to and consistency with CDC and HHS information and publication policies and guidelines; (13) manages CDC logo licensing requests from external partner organizations involving NCCDPHP divisions and programs; (14) represents NCCDPHP on committees, workgroups, and at conferences relating to health communication activities; and (15) manages the National Conference on Chronic Disease Prevention and Health Promotion.

Delete in Its Entirety the Functional Statements for the Division of Adolescent and School Health (CUCB)

Delete in Its Entirety the Functional Statements for the Division of Oral Health (CUCD) and Insert the Following

Division of Oral Health (CUCD). (1) Monitors burden of oral diseases, risk factors, preventive services, and other associated factors; (2) supports public health research that directly applies to oral health policies and programs; (3) communicates timely and relevant information to impact oral health policy, practices, and programs; (4) supports the implementation and maintenance of effective strategies and interventions to reduce the burden of oral diseases and conditions; (5) builds capacity and infrastructure for sustainable, effective, and efficient oral health programs; (6) evaluates oral health programs to ensure that implementation has been successful; (7) identifies and facilitates partnerships to support CDC's strategic priorities for oral health; (8) investigates and diagnoses oral health hazards and outbreaks in the community; (9) develops and advocates sound oral public health policies; and (10) translates and disseminates research findings to develop, enhance, and guide programs, polices and strategies.

Delete in Its Entirety the Title and Functional Statements for the Division of Adult and Community Health (CUCE)

Delete in Its Entirety the Functional Statements for the Division of Diabetes Translation (CUCG), and Insert the Following

Division of Diabetes Translation (CUCG). In collaboration with NCCDPHP divisions, other CDC components, other HHS agencies, state, tribal, local and territorial government agencies, academic institutions, and voluntary and private sector organizations, the Division of Diabetes Translation; (1) Plans, directs, and coordinates a national program to prevent diabetes and reduce morbidity, mortality, disability, and costs associated with diabetes and its complications; (2) identifies, evaluates, and implements programs and policies to prevent and control diabetes through the translation of evidence-based models and interventions for improved health care and self-care practices into widespread clinical and community practice; (3) conducts surveillance of diabetes, its complications, and the utilization of health care and prevention resources to monitor trends and evaluate program impact on morbidity, mortality, disability, and cost; (4) conducts epidemiologic studies and disseminates findings to identify and evaluate the feasibility and effectiveness of potential prevention and control strategies at the community level; (5) develops or supports clinical and public health guidelines and strategies to form the basis for community interventions; and (6) provides technical consultation and assistance to state and local health agencies to implement and evaluate cost effective interventions to reduce morbidity, mortality, and disability.

Office of the Director (CUCG1). (1) Establishes and interprets policies and determines program priorities; (2) provides leadership and guidance in strategic planning, budget formulation, programmatic and scientific planning, development, and management, administrative management and operations of the division; (3) coordinates the monitoring and reporting of division priorities, accomplishments, future directions, and resource requirements; (4) leads and coordinates policy, communications and partnership activities; (5) leads and coordinates the activities to build the National Diabetes Prevention Program; (6) leads and coordinates cross-cutting activities to eliminate diabetes health disparities and improve health equity; and (7) coordinates division activities with other components of NCCDPHP and CDC, organizations in the public and private sectors, and other federal agencies.

Epidemiology and Statistics Branch (CUCGB). (1) Conducts national surveillance of diabetes and its complications and assists state health agencies in establishing and conducting diabetes surveillance systems at the state level; (2) identifies basic and clinical research findings and technologies that have potential to prevent or control diabetes and its complications through public health avenues; (3) designs, coordinates, and funds regional and national surveillance systems and population studies of the effectiveness of health system and policy-level interventions; (4) develops and analyzes mathematical and economic models to project the burden of diabetes and prioritize effective interventions to prevent and control diabetes; (5) conducts epidemiologic studies to identify high-risk population groups and other risk factors for diabetes and its complications; (6) conducts cost and cost-effectiveness analyses of diabetes prevention and control technologies to prioritize strategies for policy-makers; (7) conducts surveillance of the degree of diffusion and dissemination of preventive services and the utilization of health care; (8) provides scientific and technical support to division staff and state and local health agencies in planning, implementing, and evaluating programs to reduce morbidity and mortality from diabetes; and (9) collaborates with counterparts in other divisions, academic institutions, and other HHS agencies by conducting national public health research projects and by providing technical assistance in areas of epidemiology, surveillance, and economics.

Program and Evaluation Branch (CUCGC). (1) Provides programmatic leadership, guidance and consultation on a range of strategies to improve diabetes prevention and control programs in states, territories, tribes and local jurisdictions; (2) identifies, develops, implements and evaluates strategies to prevent and control diabetes through translation of science into widespread community practice and through the application of policy and environmental interventions, health systems interventions and community interventions; (3) implements and evaluates program policies, plans, procedures, priorities, and guidelines to improve health, prevent or delay the development of type 2 diabetes, and reduce morbidity, mortality, disability, and costs associated with diabetes and its complications, especially among vulnerable and disparate population groups; (4) obtains, analyzes, disseminates, and publishes data from diabetes prevention and control programs to develop operational strategies for translation of results into improved practice; (5) provides leadership, management and oversight for the National Diabetes Education Program with the National Institutes of Health and other key partners; (6) designs, evaluates, and implements national educational strategies directed toward health care professionals and systems, individuals with diabetes, community leaders, businesses, and the general public; (7) develops diabetes and pre-diabetes management educational materials, training courses, tools and other materials; (8) develops, implements and supports work with native populations through the Native Diabetes Wellness Program; and (9) coordinates and collaborates with counterparts in other divisions, HHS agencies, academic institutions, and national and voluntary organizations to improve public health diabetes prevention and control programs, practices and policies.

Delete in Their Entirety the Functional Statements for the Division of Nutrition, Physical Activity and Obesity (CUCH), and Insert the Following

Division of Nutrition, Physical Activity, and Obesity (CUCH). (1) Provides national and international leadership for chronic disease prevention and control and health promotion in the areas of nutrition, physical activity, and obesity; (2) plans and implements surveillance to track and analyze policy and environmental indicators and behaviors related to nutrition, physical activity, and related risk factors for obesity and other chronic diseases; (3) builds international, national, state, and local expertise and capacity to plan, implement, and evaluate nutrition, physical activity, and obesity prevention programs; (4) conducts epidemiologic and intervention studies related to nutrition, physical activity, and obesity; (5) develops and disseminates new methods, guidelines, and recommendations for effective nutrition, physical activity, and obesity prevention strategies in multiple settings; (6) facilitates the translation and dissemination of practice- and research-tested findings into public health practice for optimal health impact; (7) provides national leadership in health communications to promote nutrition, physical activity, and obesity prevention and control, and integrates health communications with overall program efforts; and (8) collaborates across CDC and with appropriate federal and state agencies, international/national/community organizations, and others.

Office of the Director (CUCH1). (1) Provides leadership and direction in establishing agency and division priorities, strategies, programs, and policies; (2) plans and directs resources and activities in alignment with agency and division goals and objectives; (3) leads policy development efforts and analyses related to nutrition, physical activity, and obesity; (4) mobilizes and coordinates partnerships and constituencies to build a national infrastructure for nutrition and physical activity promotion and obesity prevention; (5) educates healthcare professionals, businesses, communities, the general public, and key decision-makers about the importance of nutrition and physical activity in preventing obesity and their impact on chronic disease and public health; (6) monitors progress toward achieving agency and division goals and objectives and assesses the impact of programs; and (7) facilitates cross-functional activities and operations across CDC and in coordination with other federal agencies, partners, and constituencies.

Nutrition Branch (CUCHC). (1) Provides technical and subject matter expertise and training for state and community programs on policy, systems and environmental approaches related to nutrition and obesity; (2) plans, coordinates, and conducts surveillance activities in domestic and international settings to assess nutrition practices, food systems, and behavioral risks in children, adolescents, and adults; (3) analyzes, interprets, and disseminates data from surveys, surveillance activities, and epidemiologic studies related to nutrition and nutrition factors affecting chronic disease; (4) designs, implements, and evaluates epidemiologic studies and intervention projects for domestic and international application to address nutrition; (5) plans, coordinates, and conducts nutrition research and surveillance of policy and environmental strategies and interventions; (6) develops and disseminates nutrition guidelines and recommendations for maternal and child health, child growth and development, and prevention/reduction of chronic disease; (7) designs and evaluates nutrition and obesity interventions; (8) provides nutrition expertise and consultation to develop and promote health communication strategies; (9) coordinates cross-functional nutrition-related activities across CDC; and (10) coordinates and collaborates with appropriate federal agencies, national and international organizations, and other partners.

Physical Activity and Health Branch (CUCHD). (1) Provides technical and subject matter expertise and training for state and community programs on policy, systems and environmental approaches related to physical activity and obesity; (2) plans, coordinates, and conducts surveillance to assess levels of physical activity as well as determinants of physical activity; (3) conducts epidemiologic research related to physical activity and its impact on health, obesity, and chronic disease; (4) designs and evaluates physical activity and obesity interventions; (5) develops evidence-based guidelines and recommendations for physical activity; (6) provides physical activity expertise and consultation to develop and promote health communication strategies; (7) coordinates cross-functional physical activity-related activities across CDC; and (8) coordinates and collaborates with appropriate federal agencies, national and international organizations, and other partners.

Obesity Prevention and Control Branch (CUCHG). (1) Provides technical and subject matter expertise and training for state and community programs on policy, systems and environmental approaches related to nutrition, physical activity, and obesity; (2) plans, coordinates, and conducts surveillance to assess levels of healthy weight, overweight, and obesity and associated risk factors; (3) conducts research that utilizes data from surveys, surveillance activities, and nutrition and physical activity epidemiologic studies related to overweight and obesity and associated risk factors; (4) designs and evaluates nutrition, physical activity and obesity interventions; (5) develops and disseminates guidelines and recommendations for policy and environmental changes in multiples settings; (6) provides nutrition, physical activity and obesity expertise and consultation to develop and promote health communication strategies; (7) coordinates cross-functional obesity-related activities across CDC; and (8) coordinates and collaborates with appropriate federal agencies, national and international organizations, and other partners.

Program Development and Evaluation Branch (CUCHH). (1) Provides technical and subject matter expertise and training for state and community programs on translation and evaluation of policy, systems, and environmental strategies for nutrition, physical activity, and obesity; (2) designs and conducts applied research, evaluation, and translation activities related to nutrition, physical activity, and obesity prevention; (3) uses research, guidelines, and recommendations to develop evidence-based interventions and promising practices that support improved physical activity, nutrition, and healthy weight; (4) conducts behavioral and communications research to understand knowledge, attitudes, and beliefs and achieve healthy behavior changes in populations; and (5) coordinates and collaborates with appropriate federal agencies, national and international organizations, and other partners.

Delete in Its Entirety the Functional Statement for the Office of the Director (CUCL1), Office on Smoking and Health (CUCL), and Insert the Following

Office of the Director (CUCL1). (1) Manages, directs, coordinates, and evaluates the activities of the Office on Smoking and Health; (2) develops goals and objectives for the office; (3) provides leadership, scientific oversight, and guidance in program planning and development; (4) coordinates the development of policy related to tobacco use and health in CDC, PHS, and HHS; (5) coordinates assistance provided by the Office on Smoking and Health (OSH) to other CDC components; federal, state, and local government agencies; the private sector; and other nations; (6) stimulates additional research and program activity related to tobacco use and health by other federal agencies, international organizations, and public and private organizations; (7) coordinates the OSH public information program, technical information program, and surveillance and epidemiologic projects and studies; (8) provides program management and administrative support services; (9) as required by Public Law 98-474, produces Biennial Status Report to Congress; (10) serves as the lead for the Tobacco and Health Objectives for the Nation; (11) collects, maintains, and analyzes information provided by the tobacco industry on cigarette additives and smokeless tobacco additives and nicotine content; (12) provides staff support for a Congressionally-mandated federal advisory committee on smoking and health; (13) serves as the principal adviser to the Surgeon General of the U.S. Public Health Service on all activities related to tobacco use and health; (14) serves a leading role in providing proactive media outreach and media response to the press, health professionals, and the general public with information on tobacco prevention and control issues; and (15) manages/leads and cultivates partnerships.

Delete in Its Entirety the Functional Statement for the Health Communications Office (CUCLC), Office on Smoking and Health (CUCL), and Insert the Following

Health Communications Office (CUCLC). (1) Plans, develops, and conducts programs to inform researchers, health professionals, policy-makers and the public about the health consequences of tobacco use; (2) provides technical guidance, assistance, and consultation to health professionals in the planning, development, and implementation of information programs at the national, state, and local levels; (3) produces, distributes, and evaluates educational materials and conducts counter-advertising campaigns to support tobacco prevention and control; (4) develops and maintains a Technical Information Center, including an on-line bibliographic database of materials relative to the OSH mission; (5) manages production of the annual Surgeon General's report and other Congressionally-mandated reports on the health consequences of tobacco use; (6) conducts joint information campaigns with other federal agencies, voluntary health organizations, state health departments, and others; (7) provides reference and referral services for OSH staff and constituents in need of scientific and other technical information; (8) plans and conducts special departmental-wide initiatives addressing high-risk groups; (9) prepares and distributes information products such as fact sheets, current awareness services, bibliographies, and legislative updates in both print and electronic formats; (10) produces speeches for CDC, PHS, and departmental officials relating to tobacco; (11) responds to public inquiries and shares general information on tobacco use and tobacco cessation; (12) manages the communication functions of OSH through activities such as maintaining slide and video libraries, managing mailing lists management, and providing conference exhibits; and (13) collaborates with other groups within CDC, PHS, and HHS and with other federal agencies, as well as other professional, voluntary, international, and professional health organizations.

Delete in Its Entirety the Functional Statements for the Division for Heart Disease and Stroke Prevention (CUCM), and Insert the Following

Division for Heart Disease and Stroke Prevention (CUCM). (1) Plans, directs, and coordinates programs to reduce morbidity, risk factors, costs, disability, mortality, and disparities associated with heart disease, stroke, and other cardiovascular disease outcomes; (2) provides national leadership, technical assistance, expert consultation, and training to state and local health agencies in intervention, surveillance, evaluation, and communication or marketing activities related to implementing state programs, registries, and other surveillance systems associated with reducing and preventing cardiovascular disease outcomes; (3) implements surveillance systems and conducts surveillance of outcomes and utilization of health care and prevention resources related to heart disease, stroke, high blood pressure, high cholesterol, and other cardiovascular disease to monitor trends and evaluate program impact on morbidity, mortality, risk factor improvement, cost, disability, and disparities; (4) conducts epidemiologic studies and disseminates findings to identify emerging risk factors with potential for prevention and control strategies; (5) conducts prevention research studies and disseminates findings to identify and evaluate the feasibility and effectiveness of potential prevention and control strategies in health care systems and at the community level; (6) identifies, implements, and evaluates programs to prevent and control heart disease, stroke, high blood pressure, high cholesterol, other cardiovascular disease outcomes, and disparities through the translation and communication of best practices in health care and risk factor prevention into widespread health systems policies and community changes; (7) collaborates with within CDC, PHS, and HHS and with other federal agencies, as well as other other cardiovascular health related activities at CDC; (8) maintains collaborative relationships with official, private, voluntary agencies, academic institutions, or other groups involved in the prevention and control of heart disease, stroke, and other cardiovascular diseases or risk factors; and (9) provides technical assistance and consultation to other nations and to the World Health Organization in the global prevention and control of cardiovascular disease.

Office of the Director (CUCM1). (1) Provides leadership and direction in establishing division priorities, strategies, programs and policies; (2) plans and directs resources and activities in alignment with division goals and objectives; (3) monitors progress toward achieving division objectives and assessing impact of programs; (4) insures that division activities are coordinated with other components of CDC both within and outside the center, with federal, state and local agencies, and related voluntary and professional organizations; (5) provides national leadership in coordinating and implementing activities that prevent heart disease and stroke; (6) educates the general public, key decision-makers, healthcare professionals, businesses and communities about the importance of and opportunities to prevent heart disease and stroke; (7) serves as co-lead for Healthy People 2020 heart disease and stroke objectives for the nation; (8) develops and produces communication tools to meet the needs of division programs and mission; (9) develops health communication campaigns at the national and state levels; (10) provides leadership to the division for health communication efforts; (11) provides administrative and management support for division activities; (12) reports accomplishments, future directions and resource requirements; and (13) represents the division at official professional and scientific meetings.

Epidemiology and Surveillance Branch (CUCMB). (1) Monitors the epidemiology of cardiovascular disease risk factors, behaviors, outcomes, costs, barriers, awareness, access to care, geographic variations and disparities; (2) prepares routine surveillance reports of national and state trends in cardiovascular disease risk factors, behaviors, outcomes, and disparities, which includes the mapping of geographic variations; (3) coordinates, manages, and maintains the activities of the National Cardiovascular Disease Surveillance System (NCVDSS), including the Data Trends & Maps Web site, the Interactive Atlas Web site, surveillance summaries, and research publications; (4) develops, designs, implements, and evaluates new cardiovascular disease registries and other surveillance systems that address gaps in existing CDC surveillance systems; (5) prepares epidemiologic and scientific papers for publication in medical and public health journals and for presentation to national public health and scientific conferences on surveillance and epidemiologic findings; (6) identifies, investigates, implements, and evaluates new surveillance methodologies and technologies that involve electronic data abstraction and transfer to state and national registries and spatial analysis; (7) proposes and serves as technical advisors and project officers for epidemiologic research projects that fill gaps in surveillance and intervention and investigates emerging risk factors that will lead to the prevention of cardiovascular disease and the elimination of disparities in cardiovascular disease; (8) serves as scientific and technical experts in cardiovascular disease epidemiology and surveillance methodology to state health departments and to advisory groups at the national/international level; (9) provides scientific leadership in the development, extension, and improvement of surveillance systems, epidemiologic strategies, and/or service to cardiovascular health programs; and (10) facilitates integration of epidemiology and surveillance across the division.

Applied Research and Evaluation Branch (CUCMC). (1) Plans, develops, and implements projects related to applied research, program evaluation, and health economics research; (2) prepares scientific papers for publication in public health journals and for presentation at national and international conferences, meetings and seminars on applied research, program evaluation, and health economics research; (3) synthesizes and translates a body of best science and practice that can be applied to various public health settings; (4) prepares and disseminates products that translate applied research, program evaluation, and health economics science to state programs and others; (5) implements a comprehensive division evaluation plan addressing all facets of division activities, including state-based program evaluation, research evaluation, and evaluation training needs; (6) provides applied research, evaluation, and health economics expertise, technical assistance and training to the division, center, CDC, and national and international partners; and (7) implements demonstration and pilot projects with state programs and others to put research into practice.

Program Development and Services Branch (CUCMD). (1) Provides programmatic leadership and support for prevention and control of heart disease, stroke, and related risk factors in states, territories, tribes and local jurisdictions; (2) provides comprehensive technical advice and assistance in planning, implementing and evaluating strategies to prevent and control heart disease, stroke, and related risk factors through policy, systems, environmental changes; (3) provides program policies and guidance outlining CDC's role and the national goals and objectives related to heart disease and stroke prevention; (4) provides technical assistance to grantees on implementation of evidence- and practice-based interventions with greatest reach and impact and potential to be taken jurisdiction wide; (5) provides technical assistance to enhance coordination across chronic diseases to ensure that heart disease and stroke prevention planning and implementation optimize collaboration across chronic disease interventions; (6) provides leadership and technical expertise, in policy and system change, health disparities, healthcare, worksite and community interventions to prevent and control heart disease, stroke and related risk factors; (7) provides leadership and technical expertise in women's cardiovascular health, health disparities and healthcare interventions for cardiovascular primary and secondary prevention programs as it relates to the Well-Integrated Screening and Evaluation for Women Across the Nation (WISE WOMAN) Program; (8) facilitates programmatic coordination across the division, center, CDC to address heart disease and stroke prevention; (9) works with national partners to encourage policy and systems changes and other actions supportive of CDC and grantee work to prevent and control heart disease, stroke and related risk factors; (10) reviews and monitors cooperative agreements and contracts; (11) serves as technical experts in the implementation of policy systems, and environmental strategies for health promotion and the prevention and control of heart disease, stroke, and related risk factors for grantees and others within CDC and with partners; (12) provides comprehensive training expertise, including distance learning, training seminars, meetings, how-to-tools, promising practices documents, and other materials to promote the prevention of heart disease and stroke and assist grantees with planning, implementing, and replicating interventions; (13) monitors management information systems for heart disease and stroke prevention efforts to assess progress toward achieving division and center goals; (14) obtains, analyzes and disseminates data from interventions to develop operational strategies to encourage replication of promising program practices; (15) provides technical assistance on use of data for program planning and priority setting, including addressing specific populations with documented health disparities; (16) ensures products developed across the division for grantees are appropriate and supportive of priority work; and (17) provides forums for grantees to ensure rapid spread of promising practices and lessons learned.

After the Title and Functional Statement for the Division for Heart Disease and Stroke Prevention (CUCM), Insert the Following

Division of Community Health (CUCN). (1) Provides national leadership in training, consultation, and technical assistance to partners in the planning, development, implementation, and evaluation of programs to advance community health; (2) develops, strengthens, and sustains key community health linkages and partnerships within and across CDC, other federal agencies, states, tribes, territories, local government agencies, academia, nongovernmental organizations and international entities; (3) supports community health initiatives and integrates health equity and the elimination of health disparities into community health practices that improve physical and mental well-being; (4) conducts applied research, epidemiology, evaluation, surveillance and performance monitoring at the community level; and (5) identifies, designs, implements and administers programs that maximize public health impact.

Office of the Director (CUCN1). (1) Mobilizes and coordinates partnerships and collaborations internally to CDC, other divisions, offices and CIOs and external constituencies to build a national infrastructure for community health and to achieve the mission of the division; (2) in coordination with other divisions, CIOs, and organizations, provides leadership in community health; (3) plans, manages, directs, coordinates and evaluates the operations of the division, including division-wide administrative, fiscal, technical, communications, research, programmatic and logistical support services, including comprehensive and continual cross-branch collaboration to assure best practices; (4) coordinates and assures the appropriate training, development, retention, succession planning for all division personnel; (5) develops budget requests, monitors and reports on progress and allocation of resources, responds to external inquiries and requests, and reports accomplishments, future directions and resource requirements; (6) builds partnerships with organizations focused on promotion of health equity and reduction of health disparities and reports on the effectiveness of community health programs in vulnerable populations; (7) provides leadership for division-wide policies, strategies, action planning, budget, and evaluation to eliminate health disparities; (8) provides leadership and technical assistance to partners to promote evidence and practice based policy, environmental, programmatic and infrastructure changes that improve community health; (9) coordinates the development, implementation and monitoring of guidelines and standards to assure ongoing high quality performance of community health programs; (10) responds to public inquiries and oversees the creation of materials designed for use by the media, including press releases, letters to the editors, other print and electronic materials and programs, and ensures appropriate clearance of materials; (11) in collaboration with the Office for State, Tribal, Local, and Territorial Support (OSTLTS), provides support and consultation for, and access to public health law expertise; including the engagement of public health law partners in developing and applying legal tools to maximize health impact in communities; (12) in coordination with others, identifies, tracks, analyzes, and disseminates policies, legislation and federal, state and local laws related to the Division of Community Health's (DCH) mission and programs.

Research, Surveillance, Evaluation Branch (CUCNB). (1) In collaboration with other divisions, CIOs, and agencies, serves as a national leader in applied research, epidemiology, evaluation, surveillance and performance monitoring to advance community health. (2) collects, analyzes, integrates, and collaborates on the dissemination of data to track and monitor the health of communities and their members, in collaboration with OSELS and other partners; (3) collaborates with other divisions to apply GIS mapping, needs assessments, simulation modeling, and other innovative technologies, research and evaluation methods to identify community-level drivers of key chronic disease indicators, especially as they relate to the creation, promotion, or elimination of health inequities; (4) evaluates policy, environmental, programmatic, and infrastructure interventions, to develop and inform the practice and evidence-base; (5) participates in setting the national agenda for the creation and maintenance of a health context database that includes information about policy, environmental, programmatic and infrastructure changes, including social determinants of health and other potential negative influences that may impact community health; (6) collaborates with Program Implementation and Development Branch to establish grantee priorities for surveillance, applied research and evaluation, and data collection; (7) collaborates with Training, Translation, Dissemination and Communications Team in the translation and dissemination of scientific and evaluation findings into culturally competent health promotion strategies, technical assistance, and training products; (8) supports applied research, surveillance, epidemiology and program evaluation to expand the evidence base; (9) builds local capacity to assess local conditions, evaluate interventions in natural settings, and collaborate with partners on the translation and dissemination of results; and (10) develops and supports performance monitoring systems that align with program and evaluation goals.

Program Implementation and Development Branch (CUCNC). (1) In collaboration with partner divisions, CIOs, and other agencies, serves as a national leader in program implementation and development to advance community health; (2) provides technical consultation and guidance to state and local health agencies, community based organizations, academic institutions, other federal agencies, and other organizations to plan, implement, monitor, and evaluate community-based prevention and health promotion programs, with an emphasis on eliminating heath disparities and achieving health equity; (3) establishes strategic goals, objectives and activities and develop funding mechanisms for intramural and extramural program activities; (4) provides administrative and management support for the development of funding opportunity announcements, oversight of grants, cooperative agreements, contracts, reimbursable agreements, and federal interagency agreements; (5) plans, develops, interprets and implements division-wide policies procedures, and practices for administrative management, acquisition and assistance mechanisms, including contracts, memoranda of agreements, discretionary grants, and cooperative agreements; (6) in collaboration with other divisions serves as subject matter experts in community health and in the implementation of policy, systems and environmental strategies for disease prevention and health promotion; (7) works with partners to build capacity for public health leadership and management through a multi-phased approach including situational analysis, capacity development, management analysis, technical assistance, and sustainability; and (8) coordinates and collaborates with other branches in DCH to support evaluation and research and the development and dissemination of practice and evidence-based strategies and tools for program implementation.

Training, Translation, Dissemination and Communications Branch (CUCND). (1) In collaboration with other divisions, CIOs, and agencies, serves as a national leader in training, translation, dissemination and communications to advance community health; (2) supports the division's community programs by developing adaptable training tools, utilizing operational research to identify and implement adapted models for state, tribal, territories, local, rural, frontier, and national contexts; (3) in collaboration with other divisions and partners, provides technical consultation, assistance, and training to government, non-government, not-for profit, and private sectors in evidence- and practice-based community and clinical prevention and wellness strategies and in capacity building at the local level; (4) supports translation and dissemination of practice and evidence findings into widespread community practices through the application of policy, environmental, programmatic and infrastructure changes for optimal community health impact; (5) serves as a clearinghouse for the collection, organization, and dissemination of evidence-based and practice-based strategies for community health programs; (6) provides grantees marketing/communications support, technical assistance, and implementation and evaluation support for evidence-based and practice-based communications strategies that advance community health through policy, environmental, programmatic and infrastructure changes; and (7) prepares and disseminates health communication and media materials that advance community health.

After the Title and Functional Statement for the Division of Community Health (CUCN), Insert the Following

Division of Population Health. (CUCP). (1) Develops and promotes population-based policy, system, and environmental change interventions, programs, strategies, materials and tools; (2) provides national and international leadership in health education and health promotion; (3) supports epidemiologic and surveillance activities, training and intervention activities in diverse settings to promote public health and support the development of state chronic disease program capacity; (4) promotes the understanding and improvement of the social and behavioral determinants of and issues related to chronic conditions; (5) coordinates activities with other components of CDC both within and outside the center; with federal, state, and local health agencies; tribes, territories, and with voluntary and professional health and education agencies; and (6) promotes health equity among populations disproportionately affected by chronic diseases and associated risk factors.

Office of the Director (CUCP1). (1) Manages, coordinates, and evaluates the activities and programs of the division; (2) ensures that division health education and health promotion activities are coordinated with other components of CDC, with international, federal, state, and local health and education agencies, and with voluntary and professional health and education entities; (3) provides leadership and coordinates division responses to requests for research, consultation, training, collaboration, evaluation, and technical assistance or information on health care, health promotion, oral health, adolescent and school health, aging, epilepsy, arthritis, quality of life, alcohol, prevention research, and emerging chronic disease issues; (4) provides scientific oversight and strategic guidance of division programmatic and research activities; (5) provides administrative and management support for the division including guidance and logistics for personnel, including field staff; the use of financial resources; and oversight of grants, cooperative agreements, contracts, and reimbursable agreements; (6) provides leadership and technical assistance to partners to promote policy, systems, and environmental changes that improve population health; (7) provides strategic guidance and coordination of policy, issues management, and program and partnership development activities; (8) coordinates and supports division-wide communication needs; and (9) supports the professional growth and development of all staff to build staff skills, knowledge, expertise, and experience.

Applied Research and Translation Branch (CUCPB). (1) Provides leadership, management, and coordination related to the planning and implementation of prevention research, research translation, and policy development to address national health priorities, including healthy aging and workplace health; (2) develops and manages funding mechanisms that allow programs across CDC to support applied public health research and translation; and (3) supports the development, evaluation, synthesis, dissemination, and promotion of innovative and cross-cutting public health interventions, programs and policies that improve physical, mental, and social dimensions of health and quality of life of people in community settings and workplaces, and through community and clinical partnerships.

Arthritis, Epilepsy and Well-Being Branch (CUCPC). (1) Directs and supports program activities that reach and improve quality of life for people affected by arthritis and epilepsy, including improving access to and availability of appropriate medical care and self-management programs and support, improving policies, environments and systems, combating stigma and depression, and increasing public awareness and knowledge; (2) develops, validates, refines, and promotes surveillance measures and develop programs, policies and interventions, and evaluations to enhance state and local public health capacity and to promote national public health action for arthritis, epilepsy, health-related quality of life, and well-being; (3) directs and coordinates strategic evaluation efforts of community and state public health actions for arthritis and epilepsy; and (4) develops and disseminates health promotion and disease prevention programs, communication campaigns, and public health information through national, state and local partners.

Coordinated State Support Branch (CUCPD). (1) Leads and coordinates center-wide activities for Coordinated Chronic Disease Prevention and Health Promotion Programs activities and develops and implements guidelines, uniform reporting procedures, performance measures, and evaluation criteria for grantees; and (2) provides ongoing guidance, training, technical assistance and support to grantees in coordination with other NCCDPHP divisions.

Epidemiology and Surveillance Branch (CUCPE). (1) Provides support to build national, state, and local public health capacity in surveillance, epidemiology, and spatial analyses to monitor excessive alcohol use and other emerging risk factors or chronic conditions and to evaluate coordinated chronic disease programs and policies; (2) provides oversight and training to state chronic disease epidemiology assignees, state alcohol epidemiologists, and epidemiologic trainees on methods for measuring, reporting, and disseminating epidemiologic research findings to build a skilled public health workforce for addressing the leading chronic diseases and related risk factors; (3) applies Geographic Information Systems (GIS) and spatial statistical methods for identifying geographic variations in leading chronic diseases and related or emerging risk factors and providing guidance to public health policy formulation and program planning; (4) provides public health leadership in the prevention of excessive alcohol use by collaborating with other CDC components, federal, state, and local agencies, private, nonprofit organizations, and international partners to promote the development and evaluation of intervention strategies and policies; and (5) communicates scientific findings on leading chronic diseases and related or emerging risk factors, including information about evidence-based prevention strategies and policies, through publications, presentations, and instructional activities at local, state, national, and international levels.

School Health Branch (CUCPG). (1) Supports state, local, territorial, and tribal agencies and national non-governmental organizations to develop, implement, evaluate, and disseminate school policy, systems, and environmental strategies and interventions to improve the health of students and school staff by promoting healthy eating, physical activity, and a tobacco-free lifestyle; (2) supports implementation and evaluation of a coordinated approach to school health and best practices in health education; physical education and other physical activity programs; nutrition services; school health services; school counseling, psychological, and social services; health promotion for staff; family and community involvement; and school health and safety policies and environment; (3) provides leadership and consultation on how schools work and how to foster effective collaboration between the public health and education sectors; (4) documents and strengthens the scientific associations among chronic disease-related health risks, school-based health promotion initiatives, and academic achievement; (5) evaluates school-based policy, systems, and environmental changes and interventions to improve health behaviors and reduce chronic disease-related health risks among children and adolescents; (6) synthesizes and translates scientific research to develop and disseminate guidance, tools, and resources to help schools prevent chronic disease-related risks among children and adolescents; (7) supports efforts of national, state, and local surveillance systems to monitor chronic disease-related health risk behaviors among youth, along with the policies, programs, and practices schools implement to address those health risk behaviors; (8) strengthens efforts of national, state, and local programs to provide high quality professional development services to support school-based chronic disease prevention policies, programs, and practices; (9) in accomplishing the functions listed above, collaborates with other components of CDC and HHS; the U.S. Department of Education, U.S. Department of Agriculture, and other federal agencies; national professional, voluntary, and philanthropic organizations; international agencies; and other organizations as appropriate; and (10) assists other nations in reducing chronic disease-related health risks among children and adolescents and in implementing and improving school health programs.

Dated: January 20, 2012.
Sherri A. Berger,
Chief Operating Officer, Centers for Disease Control and Prevention.

[FR Doc. 2012-2531 Filed 2-3-12; 8:45 am]

BILLING CODE 4160-18-M